DEPARTMENT OF DEFENSE

Office of the Secretary

32 CFR Part 268

[Docket ID: DOD-2018-OS-0063]

RIN 0790-AK21

Collecting and Reporting of Foreign Indebtedness Within the Department of Defense

AGENCY: Office of the Under Secretary of Defense (Comptroller), DoD.

ACTION: Final rule.

SUMMARY: This final rule removes the Department of Defense (DoD) regulation that relates to the collecting and reporting of foreign indebtedness because it contains DoD's internal guidelines on identifying, billing, collecting, and managing foreign arrearages and indebtedness. These guidelines are internal and provide performance and reporting requirements to the Defense Finance and Accounting Service, the Defense Security Cooperation Agency, and the DoD Components. Therefore, this CFR part can be removed.

DATES: This rule is effective on August 19, 2019.

FOR FURTHER INFORMATION CONTACT: Kellie Allison at 703-614-0410.

SUPPLEMENTARY INFORMATION: It has been determined that publication of the removal of this CFR part, codified on March 17, 1978 (43 FR 11196), for public comment is unnecessary because it is based on removing internal policies and procedures that will remain publicly available on the Department's website. DoD internal guidance will continue to be published in DoD's Financial Management Regulation, Volume 16, Chapter 6 (most recently updated in August 2018), “Debt Owed to the Department of Defense (DoD) by Foreign Entities,” available at https://comptroller.defense.gov/Portals/45/documents/fmr/current/16/16_06.pdf.

This rule is not significant under Executive Order (E.O.) 12866, “Regulatory Planning and Review,” therefore the requirements of Executive Order 13771, “Reducing Regulation and Controlling Regulatory Costs,” do not apply.

This removal supports a recommendation from the DoD Regulatory Reform Task Force.

List of Subjects in 32 CFR Part 268

Accounting, Armed forces, Claims, Foreign claims, Reporting and recordkeeping requirements.

PART 268—[REMOVED]

Accordingly, by the authority of 5 U.S.C. 301, 32 CFR part 268 is removed.

Dated: August 14, 2019.
Aaron T. Siegel,
Alternate OSD Federal Register Liaison Officer, Department of Defense.

[FR Doc. 2019-17773 Filed 8-16-19; 8:45 am]

BILLING CODE 5001-06-P